FEDERAL MINE SAFETY AND HEALTH REVIEW COMMISSION

Sunshine Act Meeting

TIME AND DATE: 3 p.m., Monday, April 25, 2011.

PLACE: The Richard V. Backley Hearing Room, 9th Floor, 601 New Jersey Avenue, NW., Washington, DC.

STATUS: Open.

MATTERS TO BE CONSIDERED: The Federal Mine Safety and Health Review Commission will consider and act upon the following in open session: Secretary of Labor v. Nally & Hamilton Enterprises, Inc., Docket No. KENT 2008-712. (Issues include whether the judge erred in finding no violation of 30 CFR 77.410(c), which requires that warning devices be “maintained” in functional condition.)

Any person attending this meeting who requires special accessibility features and/or auxiliary aids, such as sign language interpreters, must inform the Commission in advance of those needs. Subject to 29 CFR 2706.150(a)(3) and 2706.160(d).

CONTACT PERSON FOR MORE INFORMATION: Jean Ellen (202) 434-9950/(202) 708-9300 for TDD Relay/1-800-877-8339 for toll free.

Emogene Johnson,
Administrative Assistant.

[FR Doc. 2011-9951 Filed 4-20-11; 4:15 pm]

BILLING CODE 6735-01-P